DEPARTMENT OF COMMERCE

National Telecommunications and Information Administration

Agency Information Collection Activities; Submission to the Office of Management and Budget (OMB) for Review and Approval; Comment Request; Communications Supply Chain Risk Information Partnership Supplemental Information Gathering

The Department of Commerce will submit the following information collection request to the Office of Management and Budget (OMB) for review and clearance in accordance with the Paperwork Reduction Act of 1995, on or after the date of publication of this notice. We invite the general public and other Federal agencies to comment on proposed and continuing information collections, which will help us assess the impact of our information collection requirements and minimize the public's reporting burden. Public comments were previously requested via the Federal Register on December 28, 2022, during a 60-day comment period. This notice allows for an additional 30 days for public comments.

Agency: National Telecommunications and Information Administration, Commerce.

Title: Communications Supply Chain Risk Information Partnership Supplemental Information Gathering.

OMB Control Number: 0660-XXXX.

Form Number(s): None.

Type of Request: New information collection.

Number of Respondents: Approximately 300.

Average Hours per Response: ⅙ (10 minutes).

Burden Hours: 50.

Needs and Uses: The Secure and Trusted Communications Networks Act of 2019 (STCNA), Public Law 112-96, 133 Stat. 158 (2020) (codified as amended at 47 U.S.C. 1601-1609), tasked NTIA with establishing a program to share information regarding supply chain security risks with trusted providers of advanced communications service and trusted suppliers of communications equipment or services. Furthermore, STCNA directed NTIA to conduct regular briefings and events and engage with trusted providers of advanced communications service and trusted suppliers of communications equipment or services, particularly small businesses or those that primarily serve rural areas.

NTIA engages in several activities to satisfy the statutory obligations assigned by STCNA, including hosting a public-facing C-SCRIP website to disseminate information about the program as well as public, open-source, unclassified supply chain alerts and information, and training opportunities. The agency also distributes a bi-monthly newsletter for those who subscribe to communications via the C-SCRIP website and conducts webinars and briefings on a variety of cybersecurity and supply chain security topics.

To tailor its engagement and more effectively and efficiently disseminate information, NTIA is seeking to collect additional biographical information from those signing up for its newsletter. Specifically, NTIA would like to collect a subscriber's name, title, employer, location (state and country), and email address. This information will enable NTIA staff to better understand the demographics of its constituents. As a result, NTIA will be able to create and distribute cybersecurity and supply chain risk information that will be more useful to its constituents and to attend events in locations where its core audience is also likely to be able to attend.

Affected Public: Business or other for-profit organizations; not-for-profit institutions; State, local, or Tribal government; Federal Government; or any other member of the public who wishes to receive the C-SCRIP newsletter.

Frequency: Once—at sign up.

Respondent's Obligation: Voluntary.

Legal Authority: Secure and Trusted Communications Networks Act of 2019 (STCNA), Public Law 112-96, 133 Stat. 158 (2020) (codified as amended at 47 U.S.C. 1601-1609).

This information collection request may be viewed at www.reginfo.gov. Follow the instructions to view the Department of Commerce collections currently under review by OMB.

Written comments and recommendations for the proposed information collection should be submitted within 30 days of the publication of this notice on the following website: www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2023-04618 Filed 3-6-23; 8:45 am]

BILLING CODE 3510-60-P